DEPARTMENT OF COMMERCE

International Trade Administration

U.S. Education Mission to Central America: Panama and Honduras (Optional Stop to Guatemala)

May 2-5, 2016.

AGENCY: International Trade Administration, Department of Commerce.

ACTION: Notice.

SUMMARY: The United States Department of Commerce, International Trade Administration, is organizing an education mission to Panama and Honduras with an optional stop to Guatemala. The Department of Commerce is partnering with the Department of State's EducationUSA Advising Centers. This trade mission is designed to emphasize U.S. higher education, focusing on, in order of importance, intensive English language programs, community colleges, summer, undergraduate and graduate programs. The trade mission follows a successful trade mission to El Salvador, Honduras and Nicaragua in March 2015 and was of high demand given the previous successes.

This mission will seek to connect U.S. higher education institutions to potential students and university/institution partners in Central America. The mission will include student fairs organized by EducationUSA, embassy briefings, site visits, and networking events. Panama City, San Pedro Sula and Guatemala City, are three of the top cities for recruiting students from Central America to the United States. Participating in the Education Mission, rather than traveling to these markets independently, will enhance the participants ability to secure appropriate meetings, especially in light of the high level engagement and support of U.S. education by the U.S. ambassadors in Panama and Honduras.

Certain criteria must be fulfilled by schools attending this trade mission. Summer programs seeking to participate should be appropriately accredited by an accreditation body recognized by the U.S. Department of Education. Intensive English language programs seeking to participate should be accredited by the Commission on English Language Programs Accreditation (CEA) or appropriately accredited by an accreditation body recognized by the U.S. Department of Education. Community colleges, undergraduate and graduate programs seeking to participate should be accredited by a recognized accreditation body listed in Council for Higher Education Accreditation (CHEA) or Accrediting Council for Education and Training (ACCET), in the Association of Specialized and Professional Accreditors (ASPA), or any accrediting body recognized by the U.S. Department of Education.

Schedule
Monday, May 2 | Arrive in Panama City.
| Check into hotel.
| Welcome Dinner and Embassy Briefing.
Tuesday, May 3 | Group departure to secondary school and university visits.
| Group lunch with American Chamber of Commerce/Panama.
| Group return to hotel for one-on-one appointments and networking opportunities.
| Afternoon: Student Information Sessions and Education Fair organized by EducationUSA in conjunction with the Commercial Service.
Wednesday, May 4 | Group departs Panama City for San Pedro Sula.
| Arrive in San Pedro Sula; Check into hotel.
| Group Lunch and Country Briefing with U.S. and Foreign Commercial Service, EducationUSA and U.S. Embassy Public Affairs Officer.
| Networking coffee with local universities.
| Afternoon: Student Information Sessions and Education Fair organized by EducationUSA in conjunction with the Commercial Service.
Thursday, May 5 | Group departs to Guatemala City.
| Arrive in Guatemala City; Check into Hotel.
| Lunch and Embassy Briefing with U.S. and Foreign Commercial Service and Public Affairs.
| One-on-one opportunities with local institutions.
| Afternoon: Student Information Sessions and Education Fair organized by a local contractor in conjunction with the Commercial Service.

Web site: Please visit our official mission Web site for more information: http://export.gov/industry/education/centralamericamission/.

Participation Requirements

All parties interested in participating in the mission to Central America must submit a complete application package for consideration to the U.S. Department of Commerce. All applicants will be evaluated on their ability to meet certain conditions and best satisfy the selection criteria as outlined below. Participants in the mission will be selected on a rolling basis to a minimum of 14 and a maximum of 20 appropriately accredited U.S. educational institutions. Both, U.S. educational institutions already recruiting students and developing partnerships in the region and those who are new to recruiting and developing partnerships in the region may apply. The optional stop of Guatemala City will also be available on a rolling basis up to a maximum of 10 participants.

Fees and Expenses

After an institution has been selected to participate on the mission, a payment to the Department of Commerce in the form of a participation fee is required. The participation fee is $2,550 for one principal representative from each non-profit educational institution or educational institution with less than 500 employees and $ $2,939 for for-profit universities with over 500 employees. An institution can choose to participate in the optional stop in Guatemala for an additional $1,646 for one principal representative from each non-profit educational institution or educational institution with less than 500 employees and $1,872 for for-profit universities with over 500 employees. The fee for each additional representative is $500. Expenses for lodging, some meals, incidentals, and all travel (except for transportation to and from airports in-country, previously noted) will be the responsibility of each mission participant. The U.S. Department of Commerce can facilitate government rates in some hotels. The cost of participating in the student fairs at each location will be included in the registration fee.

Application

All interested firms and associations may register via the following link: http://emenuapps.ita.doc.gov/ePublic/TM/6R0R.

Exclusions

The mission fee does not include any personal travel expenses such as lodging, most meals, local ground transportation, except as stated in the proposed agenda, and air transportation from the United States to the mission site and return to the United States.

Timeline for Recruitment and Applications

Mission recruitment will be conducted in an open and public manner, including publication in the Federal Register, posting on the Commerce Department trade mission calendar (http://export.gov/industry/education/) and other Internet Web sites, press releases to general and trade media, direct mail, notices by industry trade associations and other multiplier groups, and publicity at industry meetings, symposia, conferences, and trade shows. Recruitment for the mission will begin immediately and conclude no later than March 1, 2016. Applications for the mission will be accepted on a rolling basis. Applications received after March 1, 2016, will be considered only if space and scheduling constraints permit.

Conditions for Participation

An applicant must submit a timely, completed and signed mission application and supplemental application materials, including adequate information on course offerings, primary market objectives, and goals for participation. The institution must have appropriate accreditation as specified per paragraph one above. The institution must be represented at the student fair by an employee. No agents will be allowed to represent a school on the mission or participate at the student fair. Agents will also not be allowed into the fairs to solicit new partnerships. If the Department of Commerce receives an incomplete application, the Department may reject the application, request additional information, or take the lack of information into account when evaluating the applications.

Participants must travel to both stops in Panama and Honduras on the mission. Guatemala is the only optional stop.

Each applicant must certify that the services it seeks to export through the mission are either produced in the United States, or, if not, marketed under the name of a U.S. firm and have at least 51 percent U.S. content of the value of the service.

FOR FURTHER INFORMATION CONTACT: Jeffrey Goldberg, Industry & Analysis, Office of Trade Promotion Programs, Washington, DC, Tel: (202) 482-1706, Email: jeffrey.goldberg@trade.gov.

Frank Spector,
Acting Director, Trade Missions Program.

[FR Doc. 2015-31144 Filed 12-9-15; 8:45 am]

BILLING CODE 3510-DR-P